DEPARTMENT OF TRANSPORTATION

National Highway Traffic Safety Administration

Reports, Forms and Recordkeeping Requirements Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on May 11, 2005 [70 FR 24860]. This is a request for a new collection.

DATES: Comments must be submitted on or before November 18, 2005.

FOR FURTHER INFORMATION CONTACT: Donovan Green, NHTSA, 400 Seventh Street, SW., Room 5307, NVS-122, Washington, DC 20590. Mr. Green's telephone number is (202) 493-0248.

SUPPLEMENTARY INFORMATION:

National Highway Traffic Safety Administration

Title: Tires and Rim Labeling.

OMB Control Number: 2127-0503.

Form Number: This collection of information uses no standard forms.

Requested Expiration Date of Approval: Three years from the approval date.

Type of Request: Request for public comment on a previously approved collection of information.

Abstract: Each tire manufacturer and rim manufacturer must label their tire or rim with the applicable safety information. These labeling requirements ensure that tires are mounted on the appropriate rims; and that the rims and tires are mounted on the vehicles for which they are intended.

Affected Public: Tire and Rim Manufacturers.

Estimated Total Annual Burden: $3,611,460.00.

ADDRESSES: Send comments, within 30 days, to the Office of Information and Regulatory Affairs, Office of Management and Budget, 725 17th Street, NW., Washington, DC 20503, Attention NHTSA Desk Officer.

Comments Are Invited On:

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication.

Issued on: October 7, 2005.
Roger A. Saul,
Director, Office of Crashworthiness Standards.

[FR Doc. 05-20892 Filed 10-18-05; 8:45 am]

BILLING CODE 4910-59-P